DEPARTMENT OF TRANSPORTATION

Federal Aviation Administration

Office of Commercial Space Transportation; Notice of Availability of the Finding of No Significant Impact (FONSI) for Actions Related to the Renewal of a Launch Operator License for Delta II Expendable Launch Vehicles at Cape Canaveral Air Force Station, Florida

AGENCY: Federal Aviation Administration (FAA), Department of Transportation.

ACTION: Notice of availability of the FONSI.

SUMMARY: In accordance with the National Environmental Policy Act of 1969 (NEPA), 42 U.S.C. 4321-4347 (as amended), Council on Environmental Quality NEPA implementing regulations (40 Code of Federal Regulations [CFR] Parts 1500 to 1508), and FAA Order 1050.1E, Change 1, the FAA is announcing the availability of a FONSI, based on the analysis and findings of the May 1988 United States Air Force (USAF) Medium Launch Vehicle Environmental Assessment (EA), Cape Canaveral Air Force Station (CCAFS), Florida. The 1988 EA evaluates the potential environmental impacts of renovating Launch Complex (LC)-17 and other support facilities at CCAFS to support 12 annual launches of the Delta II vehicle. USAF issued a FONSI, which concluded that the environmental impacts associated with their Proposed Action would not significantly impact the quality of the human environment, and therefore the preparation of an Environmental Impact Statement (EIS) was not required. Under the FAA's Proposed Action as stated in the FONSI, the FAA would renew a Launch Operator License to Orbital Sciences Corporation for the continued operation of Delta II expendable launch vehicles at CCAFS. A Launch Operator License would authorize launches of Delta II vehicles over the 5-year term of the license.

In accordance with the requirements of FAA Order 1050.1E, Change 1, paragraph 410, the FAA has independently evaluated the information contained in the 1988 EA and has verified the continued validity of the analysis contained in the EA. The FAA has determined that the 1988 EA sufficiently addresses the concerns of the FAA and complies with FAA requirements for implementing NEPA as stated in FAA Order 1050.1E, Change 1. The FAA has determined that there is no new information or analysis that would require preparation of a new or supplemental EA or EIS according to the CEQ Regulations (40 CFR 1502.9(c)(1)). Therefore, the FAA issues the FONSI concurring with the analysis of impacts and findings in the 1988 EA and formally adopts the EA in compliance with the requirements of 40 CFR 1506.3 to support renewing a Launch Operator License to Boeing for the continued operation of Delta II expendable launch vehicles at CCAFS. The 1988 EA is incorporated by reference and is summarized as necessary in the FONSI.

The FAA has posted the FONSI on the Internet at http://www.faa.gov/about/office_org/headquarters_offices/ast/.

FOR FURTHER INFORMATION CONTACT: Mr. Daniel Czelusniak, Environmental Program Lead, Office of Commercial Space Transportation, Federal Aviation Administration, 800 Independence Avenue, SW., Room 325, Washington, DC 20591, telephone (202) 267-5924; E-mail daniel.czelusniak@faa.gov.

Issued in Washington, DC on March 1, 2011.
Michael McElligott,
Manager, Space Systems Development Division.

[FR Doc. 2011-5113 Filed 3-4-11; 8:45 am]

BILLING CODE 4310-13-P